FEDERAL COMMUNICATIONS COMMISSION

Sunshine Act Meeting; FCC To Hold Open Commission Meeting; Friday, August 22, 2008

August 18, 2008.

The Federal Communications Commission will hold an Open Meeting on the subjects listed below on Friday, August 22, 2008, which is scheduled to commence at 10 a.m. in Room TW-C305, at 445 12th Street, SW., Washington, DC.

Item No. | Bureau | Subject
1 | Wireless Tele-Communications | Title: Reexamination of Roaming Obligations of Commercial Mobile Radio Service Providers (WT Docket No. 05-265).
|  | Summary: The Commission will consider a Memorandum Opinion and Order on Reconsideration addressing petitions for reconsideration of the Report and Order.
2 | Wireline Competition | Title: Implementation of the NET 911 Improvement Act.
|  | Summary: The Commission will consider a Notice of Proposed Rulemaking regarding implementation of the New and Emerging Technologies 911 Improvement Act of 2008.
3 | Media | Title: Carriage of Digital Television Broadcast Signals: Amendment to Part 76 of the Commission's Rules.
|  | Summary: The Commission will consider a Fourth Report and Order concerning issues related to mandatory cable carriage of digital broadcast television signals after the conclusion of the digital television (“DTV”) transportation.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc., (202) 488-5300; Fax (202) 488-5563; TTY (202) 488-5562. These copies are available in paper format and alternative media, including large print/type; digital disk; and audio and video tape. Best Copy and Printing, Inc., may be reached by e-mail at FCC@BCPIWEB.com.

Federal Communications Commission.
Marlene H. Dortch,
Secretary.

[FR Doc. E8-19401 Filed 8-18-08; 4:15 pm]

BILLING CODE 6712-01-P